DEPARTMENT OF DEFENSE

Office of the Secretary

[Docket ID DoD-2013-OS-0200]

Privacy Act of 1974; System of Records

AGENCY: Office of the Secretary of Defense, DoD.

ACTION: Notice to add a new System of Records.

SUMMARY: The Office of the Secretary of Defense proposes to add a new system of records in its inventory of record systems subject to the Privacy Act of 1974, as amended.

DATES: This proposed action will be effective on November 1, 2013 unless comments are received which result in a contrary determination. Comments will be accepted on or before October 31, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by telephone at (571) 372-0461.

SUPPLEMENTARY INFORMATION: The Defense Information Systems Agency notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/osd/index.html. The proposed system report, as required by 5 U.S.C. 552a(r) of the Privacy Act of 1974, as amended, was submitted on August 22, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 25, 2013.
Aaron Siegel,
Alternate OSD Federal Register Liaison Officer, Department of Defense.

DPFPA 04

System name:

Shift Management System.

System location:

Pentagon Force Protection Agency (PFPA), 9000 Defense Pentagon, Washington, DC 20301-9000.

Pentagon Force Protection Agency (PFPA), 4800 Mark Center Drive, Alexandria, VA 22350.

Categories of individuals covered by the system:

PFPA Police Officers.

Categories of records in the system:

Employee name, badge number, home or mobile phone, home city and state, personal email address, work phone and email address, official training certifications, grade, rank, tenure, security clearance, work schedules and assignments (to include leave and overtime), specialties and skills relevant to their job, and duty limitations relevant to job requirements.

Authority for maintenance of the system:

10 U.S.C. 2674, Operation and control of Pentagon Reservation and defense facilities in National Capital Region; and DoD Directive 5105.68, Pentagon Force Protection Agency (PFPA).

Purposes:

To manage the assignment of police officers, who work shifts to specific posts while conforming to workforce rules, policies, and post requirements. Police officer availability for different posts is determined through Officer's leave status, overtime policies, and skills and certifications required for various posts. Police officer contact information will be used to notify officers of overtime or special event opportunities and incorporate them into the schedule, if accepted.

To provide an automated method for PFPA police officers to request leave or overtime and review post assignments.

To serve as a management tool for statistical analysis, tracking, reporting, evaluating program effectiveness and conducting research.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the Office of the Secretary of Defense (OSD) compilation of systems of records notices may apply to this system.

Policies and practices for storing, retrieving, accessing, retaining, and disposing of records in the system:

Storage:

Electronic storage media.

Retrievability:

Name or badge number.

Safeguards:

Records are maintained in a controlled facility. Physical entry is restricted by the use of locks, an intrusion detection system, guards, and is accessible only to authorized personnel. Access to records is limited to person(s) responsible for servicing the record in performance of their official duties and who are properly screened and cleared for need-to-know. Access to computerized data is restricted by Common Access Card (CAC) and username/passwords, which are changed periodically. Data is encrypted and the server is maintained behind a technical safeguard/firewall titled demilitarized zone (DMZ). Audits of user activity will be conducted on a periodic basis.

Retention and disposal:

Destroy after GAO audit or after 6 years, whichever is sooner.

System manager(s) and address:

Deputy Division Chief of the Technical Services Division, Pentagon Force Protection Agency, Pentagon Police Directorate, 9000 Defense Pentagon, Washington, DC 20301-9000.

Notification procedure:

Individuals seeking to determine if their information is contained in this system should address written inquiries to Deputy Division Chief of the Technical Services Division, Pentagon Force Protection Agency, Pentagon Police Directorate, 9000 Defense Pentagon, Washington, DC 20301-9000.

Signed, written requests should contain the full name and badge number of the individual.

Record access procedures:

Individuals seeking access to records about themselves should address written inquiries to the Office of the Secretary of Defense/Joint Staff, Freedom of Information Act Requester Services, 1155 Defense Pentagon, Washington, DC 20301-1155.

Signed, written requests should contain the full name, current address and telephone number of the individual, the name and number of this system of records notice.

Contesting record procedures:

The OSD rules for accessing records, for contesting contents and appealing initial agency determinations are published in OSD Administrative Instruction 81; 32 CFR Part 311; or may be obtained from the system manager.

Record source categories:

Individuals.

Exemptions claimed for the system:

None.

[FR Doc. 2013-23788 Filed 9-30-13; 8:45 am]

BILLING CODE 5001-06-P